DEPARTMENT OF COMMERCE

National Oceanic and Atmospheric Administration

50 CFR Part 648

[I.D. 010201D]

New England Fishery Management Council; Public Meeting

AGENCY: National Marine Fisheries Service (NMFS), National Oceanic and Atmospheric Administration (NOAA), Commerce.

ACTION: Public meetings.

SUMMARY: The New England Fishery Management Council (Council) will hold several public meetings, including a 3-day Council meeting, on January 23, 24, and 25, 2001, to consider actions affecting New England fisheries in the exclusive economic zone (EEZ). During this period, the Council’s Enforcement, Red Crab and Magnuson-Stevens Fishery Conservation and Management Act (Magnuson-Stevens Act) Committees also will meet independently from and report back to the Council.

DATES: Both the Enforcement and Red Crab Committees will meet on Tuesday, January 23, at 9 a.m. The Council meeting will be held on Tuesday, January 23, 2001, beginning at 1:00 p.m., and on Wednesday and Thursday, January 24 and 25, at 8:30 a.m. The Magnuson-Stevens Act Committee will meet on Wednesday, January 24, at 6 p.m.

ADDRESSES: The meetings will be held at the Sheraton Ferncroft Hotel, 50 Ferncroft Road, Danvers, MA, 01923; telephone (978) 777-2500. Requests for special accommodations should be addressed to the New England Fishery Management Council, 50 Water Street, Mill 2, Newburyport, MA 01950; telephone (978) 465-0492.

FOR FURTHER INFORMATION CONTACT: Paul J. Howard, Executive Director, New England Fishery Management Council (978) 465-0492.

SUPPLEMENTARY INFORMATION:

Tuesday, January 23, 2001

Enforcement Committee Meeting

The committee intends to initiate a review of enforcement activities since the implementation of Amendment 5 to the Northeast Multispecies Fishery Management Plan (FMP). The information will be used in documents supporting Amendment 13 to the FMP. The committee also will finalize recommendations for Sea Scallop Framework Adjustment 14 and discuss issues related to measuring the cod-end mesh in fishing nets.

Red Crab Committee Meeting

The committee intends to discuss recent events in the red crab fishery and develop recommendations to the Council on issues related to potential overfishing of the red crab resource.

Council Meeting

After introductions, the meeting will begin with a report from the Council’s Research Steering Committee. The committee chair will ask the Council to approve elements of a Request for Proposals (RFP), including research priorities. The RFP will outline requirements under which fishermen and scientists may apply for funds to conduct collaborative groundfish or related research in New England. During the Skate Committee Report to follow, the Council will consider a request for NMFS emergency or interim action to prohibit the possession of barndoor skates on vessels fishing in Federal waters. There also will be a discussion and possible approval of a request to NMFS to eliminate, for management purposes, clearnose and rosette skate from the Northeast skate complex. The Red Crab Committee will report on issues addressed at its earlier committee meeting. These include recent changes in the deep-sea red crab fishery and consideration of a request for emergency or interim action to address overfishing as a result of the recent changes in the fishery. The committee will also forward the results of their discussion concerning the need to develop a Red Crab FMP this year.

Wednesday, January 24, 2001

The Council meeting will begin with a closed session for approximately an hour to discuss personnel and internal administrative matters. The open portion of the meeting will begin with a report from the Groundfish Committee. There will be an update on the development of Amendment 13 to the Northeast Multispecies FMP, including a discussion of the biological objectives for the amendment (in light of Amendment 9 overfishing definitions) and progress on the development of management measures. This also will serve as the initial meeting for Framework 36 to the Northeast Multispecies FMP. Actions under consideration in the framework adjustment include alternatives that would address regulatory discards of Gulf of Maine cod and address combined landings and discards that exceed the 2000 target Total Allowable Catch, a measure to allow tuna purse seine vessels access to the current groundfish closed areas, expansion of the northern shrimp fishery area in the Gulf of Maine, an extension of the timeframe of the Western Gulf of Maine Closed Area and other issues identified by the Groundfish Committee and Council. The Habitat Committee will review the court decision and order on American Oceans Campaign v. Secretary of Commerce Daley (the Essential Fish Habitat lawsuit) and will discuss Council responsibility to implement corrective action concerning the requirements of the National Environmental Policy Act. The discussion will include a proposed approach to comply with the court order in the Northeast Multispecies Amendment 13 Environmental Impact Statement currently under development. In the final agenda item for the day, the Spiny Dogfish Committee will recommend approval of annual specifications for the 2001-2002 fishing year; measures may include a Total Allowable Catch, quotas, trip limits, and/or any other measures specified in the Spiny Dogfish FMP.

Magnuson-Stevens Act Committee Meeting

Following adjournment of the Council meeting, the Magnuson-Stevens Act Committee will meet briefly to discuss the reauthorization of the Magnuson-Stevens Act and develop an approach to address issues proposed in the legislation.

Thursday, January 25, 2001

The third day of the Council meeting will begin with reports on recent activities from the Council Chairman, Executive Director, the NMFS Regional Administrator, Northeast Fisheries Science Center and Mid-Atlantic Fishery Management Council liaisons, and representatives of the Coast Guard, NMFS Enforcement and the Atlantic States Marine Fisheries Commission. As part of a NMFS Stock Assessment Public Review Workshop, Northeast Fisheries Science Center staff will present an advisory on the stock status of sea scallops, silver hake, American plaice, and Gulf of Maine haddock. During the afternoon session, the Council will consider approval of final action on Framework Adjustment 14 to the Atlantic Sea Scallop FMP and its related Draft Supplemental Environmental Impact Statement. Four management issues will be addressed in the framework: (1) the annual adjustment to the days-at-sea available for fishing in the 2001-2002 and the 2002-2003 fishing years; (2) up to four 2-year area closures to protect small scallops; (3) a controlled fishing program to harvest scallops in the Hudson Canyon and Virginia Beach Areas; and (4) a new possession limit on in-shell scallops for limited access scallop vessels when inshore of the day-at-sea monitoring line south of 42°20’ N latitude. The Council meeting will adjourn after addressing any other outstanding business.

Although other non-emergency issues not contained in this agenda may come before this Council for discussion, those issues may not be the subjects of formal action during this meeting. Council action will be restricted to those issues specifically listed in this notification and any issues arising after publication of this notification that require emergency action under section 305(c) of the Magnuson-Stevens Act, provided the public has been notified of the Council's intent to take final action to address the emergency.

The New England Council will consider public comments at a minimum of two Council meetings before making recommendations to the National Marine Fisheries Service Regional Administrator on any framework adjustment to a fishery management plan. If she concurs with the adjustment proposed by the Council, the Regional Administrator has the discretion to publish the action either as proposed or final regulations in the Federal Register. Documents pertaining to framework adjustments are available for public review 7 days prior to a final vote by the Council.

Special Accommodations

This meeting is physically accessible to people with disabilities. Requests for sign language interpretation or other auxiliary aids should be directed to Paul J. Howard (see ADDRESSES) at least 5 days prior to the meeting date.

Dated: January 3, 2001.
Bruce C. Morehead,
Acting Director, Office of Sustainable Fisheries, National Marine Fisheries Service.

[FR Doc. 01-561 Filed 1-8-01; 8:45 am]

BILLING CODE 3510-22-S